DEPARTMENT OF HEALTH AND HUMAN SERVICES

Centers for Disease Control and Prevention

[60Day-14-0906]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Green Housing Study (OMB No. 0920-0906, Expiration 11-30-2014)—Extension—National Center for Environmental Health (NCEH), Centers for Disease Control and Prevention (CDC).

Background and Brief Description

The Centers for Disease Control and Prevention (CDC) is seeking a three-year extension of Office of Management and Budget (OMB) approval for the Green Housing Study information collection. The information collected will help scientists better understand whether green building design features reduce human exposures to chemical and biological agents in the home and/or improve respiratory health of children with asthma. This study directly supports the Healthy People 2020 Healthy Homes' health protection goal of the Centers for Disease Control and Prevention (CDC). This investigation is also consistent with CDC's Health Protection Research Agenda, which calls for research to identify the major environmental causes of disease and disability and related risk factors.

In 2011, CDC funded the first two study sites for the Green Housing Study; one location was in Boston and the other was in Cincinnati. In these two cities, renovations sponsored by the Department of Housing and Urban Development (HUD) had already been scheduled. By selecting sites in which renovations are already scheduled to occur, the CDC can leverage the opportunity to collect survey and biomarker data from residents and to collect environmental measurements in homes in order to evaluate associations between green housing and health. Site selection for future locations will continue in the same manner as used for the first two sites. During the next 3-year OMB approval cycle, funding is currently available for the addition of one more study site.

Although the first two study sites have provided insight into how specific green building practices (e.g., use of low chemical-emitting paints and carpets) can influence levels of substances in the home such as volatile organic compounds (VOCs), more study sites in different geographic locations will help scientists understand if these relationships hold in different climates and housing stock. The data collection period for the first two study sites was completed during the original 3-year OMB approval period. A total of 13 study sites are needed for statistical power to test associations between the exposures and outcomes measured in the Green Housing Study. This ongoing study provides a foundation upon which to explore the potential for green affordable housing to promote healthy homes principles.

Study participants will continue to include children with asthma and their mothers/primary caregiver living in HUD-subsidized housing that has either received a green renovation or is a comparison home (i.e., no renovation). This will be accomplished in a total of thirteen study sites across the United States. The following are eligible for the study: (1) Children (age 7-12 years with asthma and (2) mothers/primary caregivers. Children with asthma (ages 7-12 years) will donate blood samples (for assessment of allergy) and urine samples (for assessment of pesticide and VOC exposures). The children with asthma (ages 7-12 years) will be also tested for lung function and lung inflammatory markers. Additionally, nasal and throat swabs samples will be collected to assess for acute respiratory infections in the children with asthma. The length of follow-up is one year. Questionnaires regarding home characteristics and respiratory symptoms of the children will be administered at 1- to 6-month intervals. Environmental sampling of the air and dust in the respondents' homes will be conducted over a 1-year period [once in the home before rehabilitation (Baseline I), and then at three time points after rehabilitation has been completed: Baseline II, 6 months, and 12 months]. Environmental sampling includes measurements of air exchange rate, pesticides, VOCs, indoor allergens, fungi, temperature, humidity, and particulate matter.

To obtain sufficient statistical power, approximately 1,000 adults (mothers/primary caregivers) across a total of 13 study sites will complete the screening forms. We assume after screening, some children will not be eligible (roughly 17%). In summary, expected overall response rate could range from 69%-86% for the eligible participants in the study from screening through the end of data collection. The number and type of respondents that will complete the questionnaires are 832 mothers/primary caregivers of enrolled children with asthma (ages 7-12 years). All health and environmental exposure information about children will be provided by their mothers/primary caregivers (i.e., no children will fill out questionnaires).

Since the study began in 2011, preliminary data from the first two study sites have been presented at national and international meetings and conferences (the 2012 and 2013 International Society of Exposure Science, the 2012 California Asthma Summit, the 2013 Chicago Asthma Consortium's Asthma and Housing Conference, and the 2014 American Academy of Allergy, Asthma, and Immunology).

There is no cost to the respondents other than their time to participate in the study. The total estimated annual burden hours inclusive of all 13 study sites equals 2,356.

Estimated Annualized Burden Hours
Type of respondents | Form name | Number of respondents | Number of responses per respondent | Average burden per response (in hours) | Total burden (in hours)
Mothers/primary caregivers of children with asthma | Screening Questionnaire | 1,000 | 1 | 10/60 | 167
Mothers/primary caregivers of enrolled children | Baseline Questionnaire (Home Characteristics) | 832 | 1 | 15/60 | 208
Mothers/primary caregivers of enrolled children | Baseline (Part 2) Questionnaire (Home Characteristics) | 832 | 1 | 5/60 | 69
Mothers/primary caregivers of enrolled children | Baseline Questionnaire (Demographics) | 832 | 1 | 5/60 | 69
Mothers/primary caregivers of enrolled children | Baseline Questionnaire (Children 7-12 with Asthma) | 832 | 1 | 15/60 | 208
Mothers/primary caregivers of enrolled children | Text Messages (Children 7-12 with Asthma) | 832 | 8 | 1/60 | 111
Mothers/primary caregivers of enrolled children | 3 and 9-month Follow-up Questionnaire (Children 7-12 with Asthma) | 832 | 2 | 5/60 | 139
Mothers/primary caregivers of enrolled children | 6 and 12-month Follow-up Questionnaire (Environment) | 832 | 2 | 10/60 | 277
Mothers/primary caregivers of enrolled children | 6 and 12-month Follow-up Questionnaire (Children 7-12 with Asthma) | 832 | 2 | 10/60 | 277
Mothers/primary caregivers of enrolled children | Time/Activity Questionnaire (Children with Asthma 7-12 years) | 832 | 4 | 5/60 | 277
Mothers/primary caregivers of enrolled children | Time/Activity Questionnaire (Mother/Primary Caregiver) | 832 | 4 | 5/60 | 277
Mothers/primary caregivers of enrolled children | Illness Checklist | 832 | 4 | 5/60 | 277
Total |  |  |  |  | 2,356

LeRoy Richardson,
Chief, Information Collection Review Office, Office of Scientific Integrity, Office of the Associate Director for Science, Office of the Director, Centers for Disease Control and Prevention.

[FR Doc. 2014-06219 Filed 3-20-14; 8:45 am]

BILLING CODE 4163-18-P